DEPARTMENT OF JUSTICE

Notice of Lodging of Consent Decree Under the Comprehensive Environmental Response, Compensation, and Liability Act

Notice is hereby given that on August 21, 2008, a proposed Consent Decree (the “Decree”) in United States v. City of Newburgh, et al., Civil Action No. 08 Civ. 7378 (SCR), was lodged with the United States District Court for the Southern District of New York.

The Decree resolves the claims of the United States, on behalf of the Environmental Protection Agency (“EPA”), under Sections 107 and 113 of the Comprehensive Environmental Response, Compensation, and Liability Act of 1980, as amended, 42 U.S.C. 9607 and 9613, against the City of Newburgh (“Newburgh”), Connell Limited Partnership (“Connell”), International Business Machines Corporation (“IBM”), Northrop Grumman Ship Systems, Inc. (“Northrop”), and the City of Poughkeepsie (“Poughkeepsie”) (collectively, the “Defendants”), relating to the Consolidated Iron and Metal Company Superfund Site (the “Site”), located in the City of Newburgh, Orange County, New York. The Site is a former junkyard and scrap metal processing facility that was operated by Consolidated Iron and Metal Company, Inc. (“Consolidated”) from the 1950s until 1999.

In a complaint filed simultaneously with the Decree, the United States alleged that Consolidated, in the course of processing scrap metal materials, contaminated the Site with hazardous substances, including lead, polychlorinated biphenyls and volatile organic compounds. Consolidated is now a defunct company. Newburgh acquired ownership of the Site in 2004. According to the complaint, Newburgh, Poughkeepsie and IBM each arranged for transport of various types of waste containing hazardous substances to the Site. The complaint further charged that wastes were transported to the Site by Luria Brothers and Company, of which Connell and Northrop are alleged successors in interest.

Pursuant to the Decree, the Defendants will pay EPA a total of $12,000,000 over a two-year period to resolve their respective liabilities at the Site. Four other potentially responsible parties who are not named defendants in the case—Consolidated Rail Corporation, Eisner Brothers, Inc., Ford Motor Company, and Kraft Foods Global, Inc.—will pay EPA an additional $62,000 pursuant to the Decree and resolve their potential liability at the Site. The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. City of Newburgh, et al. , D.J. Ref. 90-11-3-07979/2.

The Decree may be examined at the Office of the United States Attorney, 86 Chambers Street, 3rd Floor, New York, New York 10007, and at U.S. EPA Region 2, Office of Regional Counsel, 290 Broadway, New York, New York 10007-1866. During the public comment period, the Decree may also be examined on the following Department of Justice Web site: http://www.usdoj.gov/enrd/Consent_Decrees.html . A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury or, if by e-mail or fax, forward a check in that amount to the Consent Decree Library at the stated address.

Ronald Gluck,
Assistant Chief, Environmental Enforcement Section, Environment and Natural Resources Division.

[FR Doc. E8-19789 Filed 8-26-08; 8:45 am]

BILLING CODE 4410-15-P